DEPARTMENT OF TRANSPORTATION

Federal Aviation Administration

Notice of Intent of Waiver With Respect to Land; Crystal Airport, Minneapolis, Minnesota

AGENCY: Federal Aviation Administration (FAA), DOT.

ACTION: Notice.

SUMMARY: The FAA is considering a proposal to change approximately 0.145 acres or 6,319.8 square feet of airport land from aeronautical use to non-aeronautical use and to authorize the granting of a permanent easement of airport property located at Crystal Airport, Minneapolis, Minnesota. The aforementioned land is not needed for aeronautical use. The easement is to be located on the south side of the airport along the northern portion of Vera Cruz Avenue North. The property is currently a public road and the proposed easement to the City of Crystal will allow the City to maintain the existing roadway and other appurtenances associated with City-related services.

DATES: Comments must be received on or before March 17, 2023.

ADDRESSES: Documents are available for review by appointment at the FAA Dakota-Minnesota Airports District Office, Nancy Nistler, Program Manager, 6020 28th Avenue South, Suite 102, Minneapolis, MN 55450. Telephone: (612) 253-4638/Fax: (612) 253-4611.

Written comments on the Sponsor's request must be delivered or mailed to: Nancy Nistler, Program Manager, Federal Aviation Administration, Dakota-Minnesota Airports District Office, 6020 28th Avenue South, Suite 102, Minneapolis, MN 55450. Telephone: (612) 253-4638/Fax: (612) 253-4611.

FOR FURTHER INFORMATION CONTACT: Nancy Nistler, Program Manager, Federal Aviation Administration, Dakota-Minnesota Airports District Office, 6020 28th Avenue South, Suite 102, Minneapolis, MN 55450. Telephone: (612) 253-4638/Fax: (612) 253-4611.

SUPPLEMENTARY INFORMATION: In accordance with section 47107(h) of Title 49, United States Code, this notice is required to be published in the Federal Register 30 days before modifying the land-use assurance that requires the property to be used for an aeronautical purpose.

The approximately 0.145 acres or 6,319.8 square feet of land is currently a public roadway. The property was acquired by the Metropolitan Airports Commission (MAC) in 1959 and 1960 through the use of Federal Aid to Airports Program grants. The proposed easement to be granted will allow the City of Crystal (City) to maintain the land as a public roadway. In exchange for the easement MAC proposes to grant to the City, the City will vacate approximately 1.5 acres or 65,500 square feet of existing easement property to MAC for aeronautical purposes.

The disposition of proceeds from the sale of the airport property will be in accordance with FAA's Policy and Procedures Concerning the Use of Airport Revenue, published in the Federal Register on February 16, 1999 (64 FR 7696).

This notice announces that the FAA is considering the release of the subject airport property at the Crystal Airport, Minneapolis, Minnesota from federal land covenants, subject to a reservation for continuing right of flight as well as restrictions on the released property as required in FAA Order 5190.6B, Change 2, section 22.16. Approval does not constitute a commitment by the FAA to financially assist in the disposal of the subject airport property nor a determination of eligibility for grant-in-aid funding from the FAA.

Property Description

A 30 feet wide street, utility, and drainage easement over under and across that part of Lot 23 Auditors Subdivision No. 328 as recorded in Hennepin County Minnesota, which is to be approximately 210.7 feet in length and bound as follows:

Southerly of the northerly line of Block 1, Mork-Campion 3rd Addition as recorded in Hennepin County Minnesota; westerly of a line 60 feet easterly and parallel to the easterly line and its extensions of said Block 1; northerly of the northerly line of the South 103.6 feet of the North One Fifth of the South Half of said Lot 23.

Issued in Minneapolis, MN, on February 8, 2023.
E. Lindsay Butler,
Manager, Dakota-Minnesota Airports District Office, FAA, Great Lakes Region.

[FR Doc. 2023-03140 Filed 2-14-23; 8:45 am]

BILLING CODE 4910-13-P